Title 3—

The President

Proclamation 10442 of September 9, 2022

World Suicide Prevention Day, 2022

By the President of the United States of America

A Proclamation

On World Suicide Prevention Day, our Nation joins the World Health Organization, the International Association for Suicide Prevention, and countries across the globe in mourning those who have died by suicide. Suicide is a devastating tragedy that leaves loved ones with unanswered questions and families missing a piece of their soul, wishing for more time together. We are still in the early stages of learning about the conditions that can lead to suicide, including job strain or loss; serious illnesses; and financial, criminal, legal, and relationship problems. Acknowledging suicide and the impact it has on our communities is a first step to understanding how it can be prevented more effectively.

Suicide accounts for 1 of every 100 deaths globally, and it is the second leading cause of death for Americans between the ages of 10 and 34. In the United States, American Indians, Alaska Native youth, LGBTQI+ youth, and rural men are disproportionately affected. Far too many service members, veterans, and law enforcement officials have taken or considered taking their own lives. And too frequently, these patriots and public servants do not receive the help they need due both to stigmas surrounding mental health challenges and lack of access to necessary resources.

During my State of the Union Address, I discussed tackling the mental health crisis as a key component of my Administration's Unity Agenda. My Administration released a comprehensive Government strategy designed to address mental health with the same substance and specificity as our approach to physical health. It connects more Americans to care and creates a full spectrum of prevention and recovery support. My Administration's budget proposes investing over $22.8 billion in Fiscal Year 2023 to bolster our mental health and care workforce, to establish new nontraditional health delivery sites, and to integrate quality mental health and substance use care into primary care settings. As we look ahead, we must advance equity in mental health and transform how mental health is understood, perceived, and treated. We also remain committed to expanding mental health research and services around the world.

Over the last 2 years, we have invested heavily in expanding the National Suicide Prevention Lifeline, which we transitioned from a 10-digit number to the 3-digit dialing code, 9-8-8, this summer. This new, easier-to-access tool connects people in crisis to trained professionals, 24-hours per day, 365 days per year.

This summer, I signed into law the first meaningful gun safety bill in nearly 30 years, which helps States implement red-flag laws that make it harder for people more likely to harm themselves and others to purchase guns. It funds more crisis intervention services and improves mental health access for children and families. With funding from my American Rescue Plan, my Administration strengthened our support for the Garrett Lee Smith State and Tribal Youth Suicide Prevention and Early Intervention Program, which awards money to States and Tribes implementing critical strategies to save lives.

Last November, my Administration released a comprehensive public health strategy for reducing military and veteran suicide, which we are now working to implement. In March, the Department of Defense established the Suicide Prevention and Response Independent Review Committee to prevent suicide in the military and address suicide risk for service members who have experienced sexual assault. I also signed an Executive Order directing the Department of Health and Human Services to expand mental health care access to LGBTQI+ youth as a means of preventing suicide.

From committed crisis counselors who serve on hotlines and in schools to clinicians, behavioral health care practitioners, faith leaders, teachers, friends, and family members—we each have a role to play. Together, we can reduce the stigmatization of mental health issues, learn how to respond to suicide risk, and offer individuals and populations most impacted the essential care they need when a crisis arises. Together, we can save lives.

On this day of commemoration and action, we commit to studying the risk factors associated with suicide and to making mental health care accessible and affordable. Finally, to those experiencing emotional distress: please know that you are loved, and that you are not alone. There is hope, and there is help, and I encourage you to call or text 9-8-8 to reach the National Suicide & Crisis Lifeline.

NOW, THEREFORE, I, JOSEPH R. BIDEN JR., President of the United States of America, by virtue of the authority vested in me by the Constitution and the laws of the United States, do hereby proclaim September 10, 2022, as World Suicide Prevention Day. I call upon all Americans, communities, organizations, and all levels of government to join me in creating hope through action and committing to preventing suicide across America.

IN WITNESS WHEREOF, I have hereunto set my hand this ninth day of September, in the year of our Lord two thousand twenty-two, and of the Independence of the United States of America the two hundred and forty-seventh.

[FR Doc. 2022-20003

Filed 9-13-22; 8:45 am]

Billing code 3395-F2-P